DEPARTMENT OF COMMERCE

National Telecommunications and Information Administration

Agency Information Collection Activities; Proposed Information Collection; Comment Request; State and Local Implementation Grant Program 2.0 Closeout Documentation

AGENCY: National Telecommunications and Information Administration, Commerce.

ACTION: Notice.

SUMMARY: The Department of Commerce, as part of its continuing effort to reduce paperwork and respondent burden, invites the general public and other Federal agencies to take this opportunity to comment on proposed and/or continuing information collections, as required by the Paperwork Reduction Act of 1995.

DATES: Written comments must be submitted on or before July 12, 2019.

ADDRESSES: Direct all written comments to Jennifer Jessup, Departmental Paperwork Clearance Officer, Department of Commerce, (202) 482-0336, Department of Commerce, Room 6612, 1401 Constitution Avenue NW, Washington, DC 20230 (or via email at PRAcomments@doc.gov).

FOR FURTHER INFORMATION CONTACT: Requests for additional information or copies of the information collection instruments and instructions should be sent to Natalie Romanoff, Program Director, State and Local Implementation Grant Program 2.0, National Telecommunications and Information Administration, U.S. Department of Commerce, 1401 Constitution Avenue NW, Room 4078, Washington, DC 20230 (or via email at nromanoff@ntia.gov or phone 202-482-2236).

SUPPLEMENTARY INFORMATION:

I. Abstract

The Middle Class Tax Relief and Job Creation Act of 2012 (Act) (Pub. L. 112-96, H.R. 3630, 126 Stat. 156) was enacted February 22, 2012.¹ The Act meets a long-standing national priority and critical infrastructure need to create a single, interoperable, nationwide public safety broadband network (NPSBN) that allows law enforcement officers, fire fighters, emergency medical service professionals, and other public safety officials to effectively communicate with each other across agencies and jurisdictions. Public safety responders have been hindered in their ability to respond in a crisis situation due to incompatible communications networks and often outdated communications equipment. Therefore, the design and deployment of this NPSBN, established by the Act, is critical to provide emergency responders the ability to communicate on a secure, reliable, and dedicated interoperable network during emergencies and to use technology to improve response time, keep communities safe, and save lives.

¹ Middle Class Tax Relief and Job Creation Act of 2012, Public Law 112-96, 126 Stat. 156 (2012) (Act) (codified at 47 U.S.C. 1401 et seq.).

The Act established the First Responder Network Authority (FirstNet) as an independent authority within the National Telecommunications and Information Administration (NTIA) and authorized it to take all actions necessary to ensure the design, construction, and operation of a nationwide NPSBN, based on a single, national network architecture.² FirstNet's responsibilities are, at a minimum, to ensure nationwide standards for the use of and access to the network; issue open, transparent, and competitive requests for proposals (RFPs) to build, operate, and maintain the network; encourage these RFPs to leverage, to the maximum extent economically desirable, existing commercial wireless infrastructure to speed deployment of the network; and oversee contracts with non-federal entities to build, operate, and maintain the network.³

² 47 U.S.C. 1424, 1426(b)(1).

³ 47 U.S.C. 1426(b)(1)(A)-(D).

The Act also charged NTIA with establishing a grant program, the State and Local Implementation Grant Program (SLIGP), to assist State, regional, tribal, and local jurisdictions with identifying, planning, and implementing the most efficient and effective means to use and integrate the infrastructure, equipment, and other architecture associated with the NPSBN to satisfy the wireless broadband and data services needs of their jurisdictions.⁴

⁴ 47 U.S.C. 1442(a).

The Act's framework outlined that FirstNet closely coordinates its activities with State, regional, tribal, and local governments and imposed a statutory requirement that FirstNet consult with these entities as it takes all actions necessary to build, deploy, and operate the NPSBN.⁵ Specifically, the Act requires FirstNet to consult with state, regional, tribal, and local governments about the distribution and expenditure of any amounts required to carry out its responsibilities to plan, build, operate, and maintain the NPSBN.

⁵ 47 U.S.C. 1422(b)(2)(B).

Additionally, the Act specifies that these required consultations occur between FirstNet and the single point of contact (SPOC) that the state designated in its original SLIGP grant application.⁶ The original SLIGP award provided recipients with funding to support their engagement in consultations as required of FirstNet under the Act.

⁶ 47 U.S.C. 1426(c)(2)(B); 47 U.S.C. 1442(d).

SLIGP 2.0

In 2013, NTIA originally awarded $116.5 million in grant funds to 54 state and territorial recipients between July 2013 and June 2014. The original grants expired February 28, 2018, and many recipients spent less than expected, leaving leftover funds. NTIA leveraged excess funds of $33.3 million from the original SLIGP grants to make a second round of grant awards, SLIGP 2.0. The SLIGP 2.0 provides funding to assist State, regional, tribal, and local jurisdictions to engage effectively with FirstNet and provide it with information needed to continue with planning the NPSBN in an effective and timely manner, as required by the Act.

SLIGP 2.0 recipients' periods of performance are currently scheduled to end in early 2020. Following the award end date, recipients will be required to complete grant closeout activities within 90 days. The purpose of closeout is to capture a final account of recipient activities and how these activities contributed to overall program goals. To ensure effective grant oversight and management, NTIA developed a closeout report form for SLIGP 2.0 recipients to complete as part of post-award monitoring and closeout activities at the end of the period of performance. The closeout report form serves as a summary of grant-funded recipient activities over the entire award period and ensures that recipients comply with all necessary closeout procedures. The closeout report form will ask recipients to aggregate their cumulative progress toward program priority areas identified in their quarterly performance progress reports (PPRs), including individuals sent to broadband conferences, staff hired, contracts executed, governance meetings held, and stakeholder events convened. Recipients will also be asked to report on their cumulative expenditures throughout the period of performance in each object class category, including personnel, fringe, travel, equipment, materials/supplies, contractual, other, and indirect costs.

NTIA will use the collection of information to monitor and evaluate how SLIGP 2.0 grant recipients are achieving the core purposes of the program established by the Act. The information collected in the closeout report form will ensure that final data effectively assesses the success of SLIGP 2.0 recipients in implementing their project goals. The publication of this notice allows NTIA to begin the process to obtain the approval for the standard three years.

II. Method of Collection

Recipients will complete the closeout report and submit the form to the SLIGP 2.0 Program Office via email.

III. Data

OMB Control Number: None.

Form Number(s): None.

Type of Review: Regular submission.

Affected Public: State, regional, local, and tribal government organizations.

Frequency: Once (at the end of the period of performance).

Number of Respondents: 46.

Average Time per Response: Final closeout report, 25 hours.

Estimated Total Annual Burden Hours: 1,150 hours.

Estimated Total Annual Cost to Public: $53.176.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they will also become a matter of public record.

Sheleen Dumas,
Departmental Lead PRA Officer, Office of the Chief Information Officer, Commerce Department.

[FR Doc. 2019-09766 Filed 5-10-19; 8:45 am]

BILLING CODE 3510-60-P